DEPARTMENT OF HOUSING AND URBAN DEVELOPMENT

[Docket No. FR-5300-FA-15]

Announcement of Funding Awards for the Assisted Living Conversion Program; Fiscal Year 2009

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Notice of Funding Availability (NOFA) for the Assisted Living Conversion Program (ALCP). This announcement contains the names of the grantees and the amounts of the awards made available by HUD.

FOR FURTHER INFORMATION CONTACT: Ms. Aretha Williams, Acting Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The ALCP is authorized by Section 202b of the Housing Act of 1959 (12 U.S.C. 1701q-2) and the Omnibus Appropriations Act, 2009 (Pub. L. 111-8 approved March 11, 2009).

The competition was announced in the SuperNOFA published in the Federal Register on September 2, 2009. Applications were rated and selected for funding on the basis of selection criteria contained in that Notice.

The Catalog of Federal Domestic Assistance number for this program is 14.314.

The Assisted Living Conversion Program is designed to provide funds to private nonprofit Owners to convert their projects (that is, projects funded under Section 202, Section 8 project-based [including Rural Housing Services' Section 515], Section 221(d)(3) BMIR, Section 236, and unused and underutilized commercial properties) to assisted living facilities. Grant funds are used to convert the units and related space for the assisted living facility.

A total of $18,818,516 was awarded to 5 projects for 105 units nationwide. In accordance with section 102(a)(4)(C) of the Department of Housing and Urban Development Reform Act of 1989 (103 Stat. 1987. 42 U.S.C. 3545), the Department is publishing the grantees and amounts of the awards in Appendix A of this document.

Dated: August 15, 2011.
Carol J. Galante,
Acting Assistant Secretary for Housing-Federal Housing Commissioner.

APPENDIX A

Fiscal Year 2009 Assisted Living Conversion Program

Arizona

Phoenix, Kivel Manor, $3,292,367, 15 units.

Maryland

Baltimore, N.M. Carroll Manor Apartments, $5,020,436, 16 units.

New York

Syracuse, Bernardine Apartments, Inc., $2,544,147, 10 units.

Ohio

Chillicothe, NCR of Ohio, $3,988,867, 25 units.

Ohio

Cuyahoga Falls, NCR of Ohio, $3,972,699, 39 units.

[FR Doc. 2011-21269 Filed 8-18-11; 8:45 am]

BILLING CODE 4210-67-P